DEPARTMENT OF ENERGY

Federal Energy Regulatory Commission

[Docket Nos. EC06-60-000; ER01-3103-010]

Weichert Enterprise IV, LLC, EIF Astoria II, LLC, Astoria Energy, LLC; Notice of Filing

January 11, 2006.

Take notice that on January 5, 2006, the Weichert Enterprise IV, LLV, EIF Astoria II, LLC, and Astoria Energy, LLC (collectively, applicants), filed with the Federal Energy Regulatory Commission an application pursuant to section 203 of the Federal Power Act for authorization of an indirect disposition of jurisdictional facilities that would result from an internal change in ownership involving upstream equity holders of Astoria Energy, LLC (Astoria). Astoria is developing a generating facility in Queens County, New York, and holds market-based rate authority. The application seeks privileged treatment of certain agreements.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. Eastern Time on January 26, 2006.

Magalie R. Salas,
Secretary.

[FR Doc. E6-547 Filed 1-18-06; 8:45 am]

BILLING CODE 6717-01-P